FEDERAL MARITIME COMMISSION

Agency Information Collection Activities: Submission for OMB Review; Comment Request

AGENCY: Federal Maritime Commission.

ACTION: Notice.

SUMMARY: The Federal Maritime Commission (Commission) is giving public notice that the agency has submitted to the Office of Management and Budget (OMB) for approval the continuing information collections (extensions with no changes) described in this notice. The public is invited to comment on the proposed information collections pursuant to the Paperwork Reduction Act of 1995.

DATES: Written comments must be submitted at the addresses below on or before April 29, 2022.

ADDRESSES: Comments should be addressed to: Office of Information and Regulatory Affairs, Office of Management and Budget, Attention: Shannon Joyce, Desk Officer for Federal Maritime Commission, OIRA_Submission@OMB.EOP.GOV, and to: Lucille L. Marvin, Managing Director, Office of the Managing Director, Federal Maritime Commission, omd@fmc.gov.

Please send separate comments for each specific information collection listed below, and reference the information collection's title and OMB number in your comments.

FOR FURTHER INFORMATION CONTACT: Copies of the submission(s) may be obtained by contacting Lucille Marvin at OMD@fmc.gov or 202-523-5800.

SUPPLEMENTARY INFORMATION:

Request for Comments

Pursuant to the Paperwork Reduction Act of 1995 (Pub. L. 104-13), the Commission invites the general public and other Federal agencies to comment on proposed information collections. On December 7, 2021, the Commission published a notice and request for comments in the Federal Register (85 FR 69254) regarding the agency's request for continued approval from OMB for information collections as required by the Paperwork Reduction Act of 1995. During the 60-day period, a clerical error was discovered in the reporting for ICR 3072-0071. A correction was published in the Federal Register on February 9, 2022, and the Commission extended the comment period for both ICR 3072-0071 and ICR 3072-0070 for an additional 30 days (87 FR 7453). The Commission received no comments on any of the requests for extensions of OMB clearance. The Commission has submitted the described information collections to OMB for approval.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collections Open for Comment

Title: 46 CFR part 531—NVOCC Service Arrangements.

OMB Approval Number: 3072-0070 (Expires April 30, 2022).

Abstract: Section 16 of the Shipping Act of 1984, 46 U.S.C. 40103, authorizes the Commission to exempt by rule “any class of agreements between persons subject to this part or any specified activity of those persons from any requirement of this part if the Commission finds that the exemption will not result in substantial reduction in competition or be detrimental to commerce. The Commission may attach conditions to an exemption and may, by order, revoke an exemption.” 46 CFR part 531 allows non-vessel-operating common carriers (NVOCCs) and shippers' associations with NVOCC members to act as shipper parties in NVOCC Service Arrangements (NSAs), and to be exempt from certain tariff publication requirements of the Shipping Act provided the carriage in question is done pursuant to an NSA filed with the Commission and the essential terms are published in the NVOCC's tariff. Current Actions: There are no changes to this information collection, and it is being submitted for extension purposes only.

Type of Review: Extension.

Needs and Uses: The Commission uses filed NSAs and associated data for monitoring and investigatory purposes and, in its proceedings, to adjudicate related issues raised by private parties.

Frequency: The filing of NSAs is not assigned a specific time by the Commission; NSAs are filed as they may be entered into by private parties. When parties enter into an NSA, it must be filed with the Commission.

Type of Respondents: Parties that enter into NSAs are NVOCCs and shippers' associations with NVOCC members.

Number of Annual Respondents: The Commission estimates an annual respondent universe of 325. The Commission expects the estimated number of annual respondents to remain at 325 in the future.

Estimated Time per Response: The time per response is estimated to be 15 minutes to add a tariff rule invoking the NSA exemption, and 1 hour for recordkeeping requirements.

Total Annual Burden: For the 325 respondents, the burden is calculated as 325 × .25 hour = 81.25 hours, rounded to 81 and 325 × 1 = 325. Total annual burden is estimated to be 406 hours.

Title: 46 CFR part 532—NVOCC Negotiate Rate Arrangements.

OMB Approval Number: 3072-0071 (Expires April 30, 2022).

Abstract: Section 16 of the Shipping Act of 1984, 46 U.S.C. 40103, authorizes the Commission to exempt by order or regulation “any class of agreements between persons subject to this [Act] or any specified activity of those persons from any requirement of this [Act] if the Commission finds that the exemption will not result in substantial reduction in competition or be detrimental to commerce.” The Commission may attach conditions to any exemption and may, by order, revoke an exemption. In 46 CFR part 532, the Commission exempted non-vessel-operating common carriers (NVOCCs) from the tariff rate publication requirements of Part 520, and allowed an NVOCC to enter into an NVOCC Negotiated Rate Arrangement (NRA) in lieu of publishing its tariff rate(s), provided the NVOCC posts a prominent notice in its rules tariff invoking the NRA exemption and provides electronic access to its rules tariff to the public free of charge. This information collection corresponds to the rules tariff prominent notice and the requirement to make its tariff publicly available free of charge.

Current Actions: There are no changes to this information collection, and it is being submitted for extension purposes only.

Type of Review: Extension.

Needs and Uses: The Commission uses the information filed by an NVOCC in its rules tariff to determine whether the NVOCC has invoked the exemption for a particular shipment or shipments. The Commission has used and will continue to use the information required to be maintained by NVOCCs for monitoring and investigatory purposes, and, in its proceedings, to adjudicate related issues raised by private parties.

Frequency: NVOCCs that opt to enter into an NRA in lieu of publishing tariff rate(s) must post a one-time notice in its rules tariff invoking the NRA exemption. NVOCCs that opt to use NRAs exclusively must publish an NRA rules tariff.

Type of Respondents: NVOCCs.

Number of Annual Respondents: 194. An average of 2,129 NVOCCs annually have invoked the NRA exemption thus far. The Commission estimates the annual number of NVOCCs that will invoke the exemption to be 194 in the future.

Estimated Time per Response: 15 minutes for those adding a tariff rule to use a combination of tariff rates and NRAs, and 1 hour for recordkeeping requirements. For those using NRAs exclusively, one hour to publish an NRA rules tariff.

Total Annual Burden: Of the 194 new NVOCCs estimated to file a rule or prominent notice in their respective tariffs, we estimate that 3% (6) will use NRAs exclusively. The burden is calculated as follows: 188 × .25 hours = 47 hours and 6 × 1 hour = 6 hours (3% using NRAs exclusively). Recording keeping requirements for the total number of NVOCCs that have invoked the exemption thus far is 2,349 × 1 hour = 2,349. Total annual burden is estimated to be 2,402 hours.

William Cody,
Secretary.

[FR Doc. 2022-06621 Filed 3-29-22; 8:45 am]

BILLING CODE 6730-02-P